DEPARTMENT OF TRANSPORTATION

Federal Railroad Administration

[Docket Number FRA-2018-0049]

Petition for Extension of Waiver of Compliance

Under part 211 of title 49 Code of Federal Regulations (CFR), this document provides the public notice that on August 18, 2021, BNSF Railway (BNSF) petitioned the Federal Railroad Administration (FRA) for an expansion of a waiver of compliance from certain provisions of the Federal railroad safety regulations contained at 49 CFR part 232, Brake System Safety Standards for Freight and Other Non-Passenger Trains and Equipment; End-Of-Train Devices. The relevant FRA Docket Number is FRA-2018-0049.

The existing waiver provides BNSF certain relief from 49 CFR 232.15, Movement of defective equipment; 49 CFR 232.103(f), General requirements for all train brake systems; and 49 CFR 232.213, Extended haul trains; and a statutory exemption from the requirements of title 49, United States Code section 20303. BNSF renews its request to expand the scope of the waiver to include coal trains operating over the Pikes Peak Subdivision in Colorado and across the Sand Hills Subdivision in Nebraska.¹

¹ BNSF initially requested expansion of the waiver on March 18, 2021. See https://www.regulations.gov/document/FRA-2018-0049-0018. Public notice of the request was issued on April 5, 2021. See https://www.regulations.gov/document/FRA-2018-0049-0021. By letter dated May 5, 2021, BNSF requested an initial 30-day hold on processing the petition. See https://www.regulations.gov/document/FRA-2018-0049-0022.

On April 12, 2019, FRA granted BNSF a test waiver to conduct a pilot program on a segment of its system to “demonstrate that the use of wheel temperature detectors to prove brake health effectiveness (BHE) will improve safety, reduce risks to employees, and provide cost savings to the industry.”

BNSF asserts the expansion would improve train braking performance and safety by reducing brake pipe air losses on all BNSF coal trains (particularly important during winter operations), and accomplish the following goals:

• Validation of braking performance of BNSF coal trains moving south through Colorado and east through Alliance, Nebraska;

• Improvement of the braking performance of individual cars identified with cold or hot wheels;

• Increased testing of car brake systems with Automatic Single Car Test (ASCT) devices;

• Increased removal of poor performing brake valves and brake system components identified by the ASCT; and

• Generation of additional important data on air brake valve performance in a cold weather environment to supplement the program started with Northern grain trains.

BNSF proposes that the processes and parameters would follow all conditions of the Southern Transcon intermodal BHE Program but differ in that the trains operate as “cycle trains” and stay intact in unit train operations, similar to the Northern Transcon grain trains.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

Communications received by October 12, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2021-18510 Filed 8-26-21; 8:45 am]

BILLING CODE 4910-06-P